DEPARTMENT OF COMMERCE

National Oceanic and Atmospheric Administration

[I.D. 121003A]

Marine Mammals; File No. 821-1588-02

AGENCY: National Marine Fisheries Service (NMFS), National Oceanic and Atmospheric Administration (NOAA), Commerce.

ACTION: Issuance of permit amendment.

SUMMARY: Notice is hereby given that the Texas A&M University, Department of Marine Biology, P.O. Box 1675, Galveston, Texas 77551 (Principal Investigator: Dr. Randall W. Davis) has been issued an amendment to scientific research Permit No. 82-1588-01.

ADDRESSES: The amendment and related documents are available for review upon written request or by appointment in the following office(s):

Permits, Conservation and Education Division, Office of Protected Resources, NMFS, 1315 East-West Highway, Room 13705, Silver Spring, MD 20910; phone (301)713-2289; fax (301)713-0376;

Southwest Region, NMFS, 501 West Ocean Blvd., Suite 4200, Long Beach, CA 90802-4213; phone (562)980-4001; fax (562)980-4018; and

Southeast Region, NMFS, 9721 Executive Center Drive North, St. Petersburg, FL 33702-2432; phone (727)570-5301; fax (727)570-5320.

FOR FURTHER INFORMATION CONTACT: Ruth Johnson or Amy Sloan at (301)713-2289) or email: firstname.lastname@noaa.gov.

SUPPLEMENTARY INFORMATION: On November 19, 2002, notice was published in the Federal Register (67 FR 69725) that an amendment of Permit No. 821-1588-00 issued June 18, 2001 (66 FR 33237), had been requested by the above-named organization. The requested amendment has been granted under the authority of the Marine Mammal Protection Act of 1972, as amended (16 U.S.C. 1361 et seq.), the Regulations Governing the Taking and Importing of Marine Mammals (50 CFR part 216).

The Permit authorizes the take of northern elephant seals (Mirounga angustirostris) for the purposes of scientific research. This study will investigate the behavioral and energetic adaptations that enable elephant seals to forage at depth in the north Pacific Ocean. Animals will be captured on Ano Nuevo.

Dated: December 23, 2003.
Stephen L. Leathery,
Chief, Permits, Conservation and Education Division, Office of Protected Resources, National Marine Fisheries Service.

[FR Doc. 03-32234 Filed 12-30-03; 8:45 am]

BILLING CODE 3510-22-S